DEPARTMENT OF HEALTH AND HUMAN SERVICES

Centers for Disease Control and Prevention

Disease, Disability, and Injury Prevention and Control Special Emphasis Panel (SEP)—PS19-003, Using Real-Time Prescription and Insurance Claims Data To Support the HIV Care Continuum; Amended Notice of Meeting

Notice is hereby given of a change in the meeting of the Disease, Disability, and Injury Prevention and Control Special Emphasis Panel (SEP)—PS19-003, Using Real-time Prescription and Insurance Claims Data to Support the HIV Care Continuum; March 6-7, 2019, 10:00 a.m.-5:00 p.m., (EST), Teleconference, Centers for Disease Control and Prevention, Room 1080, 8 Corporate Square Blvd., Atlanta, GA 30329 which was published in the Federal Register on December 26, 2018, Volume 83, Number 246, pages 66267.

The meeting is being amended to change the date. The date should read as follows: March 6, 2019; 10:00 a.m.-5:00 p.m. The meeting is closed to the public.

FOR FURTHER INFORMATION CONTACT: Gregory Anderson, M.S., M.P.H., Scientific Review Officer, CDC, 1600 Clifton Road NE, Mailstop E60, Atlanta, Georgia 30333, (404) 718-8833, gca5@cdc.gov.

The Chief Operating Officer, Centers for Disease Control and Prevention, has been delegated the authority to sign Federal Register notices pertaining to announcements of meetings and other committee management activities, for both the Centers for Disease Control and Prevention and the Agency for Toxic Substances and Disease Registry.

Sherri Berger,
Chief Operating Officer, Centers for Disease Control and Prevention.

[FR Doc. 2019-02910 Filed 2-20-19; 8:45 am]

BILLING CODE 4163-18-P